FEDERAL COMMUNICATIONS COMMISSION

[FRS 16604]

Open Commission Meeting by Teleconference, Tuesday, March 31, 2020

March 24, 2020.

The Federal Communications Commission will hold an Open Meeting on Tuesday, March 31, 2020, which is scheduled to commence at 10:30 a.m. Due to the current COVID-19 pandemic and related agency telework and headquarters access policies, this meeting will be in a wholly electronic format and will be open to the public on the internet via live feed from the FCC's web page at www.fcc.gov/live and on the FCC's YouTube channel. Because of these special circumstances, the items listed below are expected to be voted on circulation prior to the meeting.

Item No. | Bureau | Subject
1 | WIRELINE COMPETITION | TITLE: Call Authentication Trust Anchor (WC Docket No. 17-97); Implementation of TRACED Act Section 6(a)—Knowledge of Customers by Entities with Access to Numbering Resources (WC Docket No. 20-67).
|  | SUMMARY: The Commission will consider a Report and Order and Further Notice of Proposed Rulemaking that would (1) adopt rules requiring originating and terminating voice service providers to implement the STIR/SHAKEN caller ID authentication framework in the Internet Protocol portions of their networks; and (2) propose additional measures to combat illegal spoofing, including measures to implement portions of the TRACED Act.
2 | MEDIA | TITLE: Rules Governing the Use of Distributed Transmission System Technologies (MB Docket No. 20-74); Authorizing Permissive Use of the “Next Generation” Broadcast Television Standard (GN Docket No. 16-142).
|  | SUMMARY: The Commission will consider a Notice of Proposed Rulemaking that would seek comment on whether to modify the Commission's rules governing the use of distributed transmission systems by broadcast television stations.
3 | MEDIA | TITLE: Significantly Viewed Stations (MB Docket No. 20-73); Modernization of Media Regulation Initiative (MB Docket No. 17-105).
|  | SUMMARY: The Commission will consider a Notice of Proposed Rulemaking that would seek comment on whether to update the methodology for determining whether a television broadcast station is “significantly viewed” in a community outside of its local market.
4 | MEDIA | TITLE: Revision of the Commission's Part 76 Review Procedures (MB Docket No. 20-70); Modernization of Media Regulation Initiative (MB Docket No. 17-105); Revision of the Commission's Program Carriage Rules (MB Docket No. 11-131).
|  | SUMMARY: The Commission will consider a Further Notice of Proposed Rulemaking and Notice of Proposed Rulemaking that would seek comment on whether to modify the Commission's rules governing the resolution of program carriage disputes between video programming vendors and multichannel video programming distributors.
5 | WIRELINE COMPETITION | TITLE: Eliminating Ex Ante Pricing Regulation and Tariffing of Telephone Access Charges (WC Docket No. 20-71).
|  | SUMMARY: The Commission will consider a Notice of Proposed Rulemaking that would propose to (1) eliminate ex ante pricing regulation and require detariffing of various end-user charges associated with interstate access service, and (2) prohibit carriers from separately listing these charges on customers' telephone bills.
6 | MANAGING DIRECTOR | TITLE: Personnel Action #20-1.
|  | SUMMARY: The Commission will consider a Personnel Action.
7 | MANAGING DIRECTOR | TITLE: Personnel Action #20-2.
|  | SUMMARY: The Commission will consider a Personnel Action.
8 | MANAGING DIRECTOR | TITLE: Personnel Action #20-4.
|  | SUMMARY: The Commission will consider a Personnel Action.
9 | MANAGING DIRECTOR | TITLE: Personnel Action #20-5.
|  | SUMMARY: The Commission will consider a Personnel Action.

The meeting will be webcast with open captioning at: www.fcc.gov/live. Live audio and video and Open Captioning will be provided on the video as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Federal Communications Commission.
Cecilia Sigmund,
Federal Register Liaison Officer, Office of the Secretary.

[FR Doc. 2020-06606 Filed 3-30-20; 8:45 am]

BILLING CODE 6712-01-P